DEPARTMENT OF THE INTERIOR

United States Geological Survey

Agency Information Collection Activities: Department of the Interior Regional Climate Science Centers

AGENCY: United States Geological Survey (USGS), Interior.

ACTION: Notice; request for comments.

SUMMARY: We (the U.S. Geological Survey) have sent an Information Collection Request (ICR) to the Office of Management and Budget (OMB) for review and approval. The ICR which is summarized below describes the nature of this collection, the estimate burden, and cost. We may not conduct or sponsor, and a person is not required to respond to, a collection of information unless it displays a currently valid OMB control number.

DATES: You must submit comments on or before February 26, 2010.

ADDRESSES: Send your comments and suggestions on this information collection to the Desk Officer for the Department of the Interior at OMB-OIRA at (202) 395-5806 (fax) or OIRA_DOCKET@OMB.eop.gov (e-mail). Please provide a copy of your comments to Phadrea Ponds, USGS Information Collection Clearance Officer, 2150-C Center Avenue, Fort Collins, CO 80525 (mail); (970) 226-9230 (fax); or pondsp@usgs.gov (e-mail). Please reference Information Collection 1028-NEW, NCCWSC in the subject line.

FOR FURTHER INFORMATION CONTACT: Nadine Hartke at U.S. Geological Survey, MS 300 National Center, 12201 Sunrise Valley Drive, Reston, VA 20192 (mail); 703-648-4607 (telephone); or nhartke@usgs.gov (e-mail). You can also go to reginfo.gov if you are interested in retrieving a copy of this ICR.

SUPPLEMENTARY INFORMATION:

I. Abstract

The USGS NCCWSC will offer financial support through a cooperative agreement to organizations that maintain the physical facility, professional science researchers and super-computing capacity to host one of these regional centers. The purpose of this Program Announcement is to identify organizations that are willing to host a Regional Center, and to determine if their science and partnership capabilities are sufficient to serve as a Host organization. Host organizations must be able to contribute climate science capabilities that complement and enhance USGS and DOI scientific and computational capacity, and those of other science partners. Information from this collection will be used to evaluate proposals submitted for consideration by the NCCWSC.

II. Data

OMB Control Number: 1028-NEW. This is a new collection.

Title: Department of the Interior Regional Climate Science Centers.

Type of Request: New.

Respondent Obligation: Required to obtain benefits.

Frequency of Collection: Annually, or upon release of Program Announcement.

Estimated Annual Number of and Description of Respondents: An estimated 80 institutions of higher education and other non-profit organizations may respond.

Estimated Annual Number of Respondents: 80.

Estimated Completion Time per Response: 20 hours.

Estimated Annual Burden Hours: 1,600 hours.

Estimated Annual Reporting and Recordkeeping “Hour” Burden: We estimate the public reporting will average 20 hours per response. This includes time to develop a technical proposal, perform internal proposal reviews, secure support letters, and submit the proposal through Grants.gov.

Estimated Annual Reporting and Recordkeeping “Non-Hour Cost:” There are no “non-hour cost” burdens associated with this collection of information.

III. Request for Comments

On November 19, 2009, we published a Federal Register notice (74 FR 59989) soliciting comments announcing that we would submit this ICR to OMB for approval. We solicited comments for a period of 60 days, ending on January 19, 2010. We received one comment concerning that Federal Register notice and we responded to the following comment in a timely manner.

Comment: Fort Collins—where deer diseases started. Your site is hardly a favorable site for sound science since Fort Collins is where they diseased deer. Many state agencies and colleges are poor choices for this kind of site since they have hired people with preordained minds and closed minds. They practice junk science. I would nominate the NJ Div Fish & Game Division of NJDEP and Rutgers Agribusiness division, both of which seem to have hired biased individuals who don't even practice scientific principles or methods. In my opinion, these divisions seem to hire people with their minds made up who blacklist those who have conflicting views. It is not an open place or site where methods and processes can be discussed. You need to be careful in aligning yourself with the state agencies that “manage” wildlife. They all seem to be stocked by card carrying members of the gun clubs who believe in guns and killing. That kind of closed mind is certainly not environmental in the least. You need to be very careful that you are getting the best science for this kind of project. If you can't get the best science, you might as well not spend the taxpayer dollars because the taxpayers are already paying for a lot of inaccurate, unfactual junk science.

Response: Hello, and thank you for your comment on Federal Register document, FR Doc. E9-27780. This response acknowledges our receipt of your comment. We would like to assure you that the USGS mission and goal is to provide the best unbiased science that we can. This is the reason we are soliciting proposals in this case. Responding to national priorities and global trends is our highest priority and requires science that not only builds on our existing strengths and partnerships but also demands the innovation made possible by integrating the full breadth and depth of our capabilities with other strong science partners which includes other government agencies, academic institutions, non-government organizations and private industries. The USGS chooses to go forward at this time because the science issues that will be addressed will represent major challenges for our Nation's natural resources. We would like to assure you, that as with all our efforts, we will be fair and unbiased in selecting the future sites and ever mindful concerning the advancement of our scientific integrity. We are thankful for your response and concern in this matter.

As the commenter did not address this specific information collection, we have not made any changes as a result of the comment.

We again invite comments concerning this ICR on: (a) Whether the proposed collection of information is necessary for the agency to perform its duties, including whether the information is useful; (b) the accuracy of the agency's estimate of the burden on the proposed collection of information; (c) ways to enhance the quality, usefulness, and clarity of the information to be collected; and (d) ways to minimize the burden on the respondents, including the use of automated collection techniques or other forms of information technology.

Comments that you submit in response to this notice are a matter of public record. Before including your address, phone number, e-mail address or other personal identifying information in your comment, you should be aware that your entire comment including your personal identifying information, may be made publically available at any time. While you can ask us in your comment to withhold your personal identifying information from public review, we cannot guarantee that we will be able to do so.

Dated: January 20, 2010.
Susan D. Haseltine,
Associate Director for Biology, U.S. Geological Survey.

[FR Doc. 2010-1686 Filed 1-26-10; 8:45 am]

BILLING CODE 4311-AM-P